DEPARTMENT OF COMMERCE

National Oceanic and Atmospheric Administration

[I.D. 081805A]

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet September 18-23, 2005. The Council meeting will begin on Monday, September 19, at 4 p.m., reconvening each day through Friday. All meetings are open to the public, except a closed session will be held at 4 p.m. on Monday, September 19 to address litigation and personnel matters. The Council will meet as late as necessary each day to complete its scheduled business.

ADDRESSES: The meetings will be held at the Embassy Suites Portland Airport, 7900 NE 82nd Avenue, Portland, OR 97220, telephone: 503-460-3000.

Council address: Pacific Fishery Management Council, 7700 NE Ambassador Place, Suite 200, Portland, OR 97220.

FOR FURTHER INFORMATION CONTACT: Dr. Donald O. McIsaac, Executive Director; telephone: 503-820-2280.

SUPPLEMENTARY INFORMATION: The following items are on the Council agenda, but not necessarily in this order:

A. Call to Order

1. Opening Remarks, Introductions

2. Roll Call

3. Executive Director's Report

4. Approve Agenda

B. Administrative Matters

1. Approval of Council Meeting Minutes

2. Council Meeting Agenda Planning

3. Legislative Matters

4. Fiscal Matters

5. Appointments to Advisory Bodies, Standing Committees, and Other Forums

6. Work Load Priorities and Draft November 2005 Council Meeting Agenda

C. Highly Migratory Species Management

1. NMFS Report

2. Bigeye Tuna Overfishing Response Update

3. Proposed Council Operating Procedure for Approving Exempted Fishing Permits for Highly Migratory Species

D. Pacific Halibut Management

1. Proposed Changes to the Catch Sharing Plan and Annual Regulations

2. Pacific Halibut Bycatch Estimate for the International Pacific Halibut Commission

E. Habitat

1. Current Habitat Issues

F. Groundfish Management

1. Status of 2005 Groundfish Fisheries and Consideration of Inseason Adjustments

2. NMFS Report

3. Amendment 18 (Bycatch)

4. Amendment 19 (Essential Fish Habitat)

5. Final Consideration of Inseason Adjustments, If Necessary

6. Process and Schedule for 2007-2008 Biennial Management Specifications Adoption

7. Rebuilding Plan Revision Policy

8. Stock Assessments for 2007-2008 Groundfish Fisheries

9. Management Specifications for Spiny Dogfish and Pacific Cod for 2006

G. Salmon Management

1. Klamath River Fall Chinook Conservation Objective

2. Salmon Methodology Review

H. Marine Protected Areas

1. Channel Islands National Marine Sanctuary

SCHEDULE OF ANCILLARY MEETINGS
SUNDAY, September 18, 2005 |
Groundfish Management Team | 1 p.m.
MONDAY, September 19, 2005 |
Council Secretariat | 8 a.m.
Groundfish Advisory Subpanel | 8 a.m.
Groundfish Management Team | 8 a.m.
Habitat Committee | 8 a.m.
Scientific and Statistical Committee | 8 a.m.
Model Evaluation Workgroup | 9 a.m.
Special Briefing: Groundfish Stock Assessments - A Summary by Northwest Fisheries Science Center | 9 a.m.
Legislative Committee | 10:30 a.m.
Budget Committee | 1 p.m.
Special Presentation: “Common Ground: Oregon's Ocean” (Green Fire Productions Marine Habitat Protection Video) | 5 p.m.
Enforcement Consultants | 5:30 p.m.
TUESDAY, September 20, 2005 |
Council Secretariat | 7 a.m.
California State Delegation | 7 a.m.
Oregon State Delegation | 7 a.m.
Washington State Delegation | 7 a.m.
Groundfish Advisory Subpanel | 8 a.m.
Groundfish Management Team | 8 a.m.
Scientific and Statistical Committee | 8 a.m.
Enforcement Consultants | As necessary
WEDNESDAY, September 21, 2005 |
Council Secretariat | 7 a.m.
California State Delegation | 7 a.m.
Oregon State Delegation | 7 a.m.
Washington State Delegation | 7 a.m.
Groundfish Advisory Subpanel | 8 a.m.
Groundfish Management Team | 8 a.m.
Salmon Advisory Subpanel | 8 a.m.
Salmon Technical Team | 8 a.m.
Scientific and Statistical Committee | 8 a.m.
Enforcement Consultants | As necessary
THURSDAY, September 22, 2005 |
Council Secretariat | 7 a.m.
California State Delegation | 7 a.m.
Oregon State Delegation | 7 a.m.
Washington State Delegation | 7 a.m.
Groundfish Advisory Subpanel | 8 a.m.
Groundfish Management Team | 8 a.m.
Enforcement Consultants | As necessary
FRIDAY, September 23, 2005 |
Council Secretariat | 7 a.m.
California State Delegation | 7 a.m.
Oregon State Delegation | 7 a.m.
Washington State Delegation | 7 a.m.
Enforcement Consultants | As necessary

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at 503-820-2280 at least 5 days prior to the meeting date.

Dated: August 18, 2005.
Emily Menashes,
Acting Director, Office of Sustainable Fisheries, National Marine Fisheries Service.

[FR Doc. E5-4599 Filed 8-22-05; 8:45 am]

BILLING CODE 3510-22-S